RAILROAD RETIREMENT BOARD

Agency Forms Submitted for OMB Review, Request for Comments

SUMMARY: In accordance with the Paperwork Reduction Act of 1995 (44 U.S.C. Chapter 35), the Railroad Retirement Board (RRB) is forwarding an Information Collection Request (ICR) to the Office of Information and Regulatory Affairs (OIRA), Office of Management and Budget (OMB) to request an extension of the following collection of information: 3220-0193, Job Information Report, consisting of RRB Form(s) G-251a, Employer Job Information (job description) and G-251b, Employer Job Information (general). Our ICR describes the information we seek to collect from the public. Review and approval by OIRA ensures that we impose appropriate paperwork burdens.

The RRB invites comments on the proposed collection of information to determine (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Previous Requests for Comments: The RRB has already published the initial 60-day notice (71 FR 44054 and 44055 on August 3, 2006) required by 44 U.S.C. 3506(c)(2). That request elicited no comments.

Information Collection Request (ICR)

Title: Job Information Report.

OMB Number: 3220-0193.

Form(s) submitted: G-251a, Employer Job Information (position description). G-251b, Employer Job Information (general).

Type of request: Extension of a currently approved collection.

Respondents: Business or other for-profit.

Obligation to respond: Voluntary.

Abstract: The collection obtains information used by the Railroad Retirement Board (RRB) to assist in determining whether a railroad employee is disabled from his or her regular occupation. It provides, under certain conditions, railroad employers with the opportunity to provide information to the RRB regarding the employee applicant's job duties.

The proposed estimated annual burden for this collection is unchanged as follows:

Estimated annual number of respondents: 430.

Total annual responses: 430.

Total annual reporting hours: 144.

FOR FURTHER INFORMATION CONTACT: Copies of the form and supporting documents can be obtained from Charles Mierzwa, the agency clearance officer at (312-751-3363) or Charles.Mierzwa@rrb.gov.

Comments: Comments regarding the information collection should be addressed to Ronald J. Hodapp, Railroad Retirement Board, 844 North Rush Street, Chicago, Illinois 60611-2092 or Ronald.Hodapp@rrb.gov and to the OMB Desk Officer for the RRB, Karen Matsuoka at kmatsuoka@omb.eop.gov, Fax (202) 395-6974.

Charles Mierzwa,
RRB Clearance Officer.

[FR Doc. E6-18962 Filed 11-8-06; 8:45 am]

BILLING CODE 7905-01-P